NATIONAL CREDIT UNION ADMINISTRATION

Sunshine Act; Notice Of Agency Meeting

TIME AND DATE: 9:30 a.m., Monday, April 4, 2011.

PLACE: Westin San Diego Hotel, Board Room, 3rd Floor, 400 West Broadway, San Diego, CA 92101.

STATUS: Closed.

MATTERS TO BE CONSIDERED: 1. Consideration of Supervisory Activities. Closed pursuant to exemptions (8), (9)(A)(ii) and 9(B).

2. Personnel (2). Closed pursuant to exemption (2).

FOR FURTHER INFORMATION CONTACT: Mary Rupp, Secretary of the Board, Telephone: 703-518-6304.

Mary Rupp,
Board Secretary.

[FR Doc. 2011-7608 Filed 3-28-11; 4:15 pm]

BILLING CODE P